DEPARTMENT OF TRANSPORTATION

Federal Aviation Administration

14 CFR Part 39

[Docket No. 99-NE-13-AD; Amendment 39-12432; AD 2001-18-06]

RIN 2120-AA64

Airworthiness Directives; General Electric Company T58 and CT58 Series Turboshaft Engines

AGENCY: Federal Aviation Administration, DOT.

ACTION: Final rule.

SUMMARY: This amendment surpersedes two existing airworthiness directives (AD's), applicable to General Electric Company (GE) T58 and CT58 series turboshaft engines. The current AD's revised the counting method for hours in repetitive heavy-lift (RHL) service and reduced the life limit for rotating components. Life-limited rotating components must be removed from service in accordance with the multiplying factors and retirement lives contained in General Electric Alert Service Bulletin (ASB) CT58 A72-162 (CEB-258), dated July 9, 1979. This amendment requires applying an additional multiplying factor to life-limited rotating parts when the engine is used in heavy lifting operations. This amendment is prompted by a review of the current AD's, AD-69-23-02 and AD-79-23-04, and a determination that the requirements of those AD's may conflict. This amendment will prevent RHL and utility service multiplier factors from being applied incorrectly. The actions specified in this AD are intended to prevent low-cycle fatigue failure of rotating parts that could result in uncontained engine failure and damage to the rotorcraft.

DATES: Effective October 18, 2001. The incorporation by reference of certain publications listed in the regulations is approved by the Director of the Federal Register as of October 18, 2001.

ADDRESSES: The service information referenced in this AD may be obtained from from GE Aircraft Engines, General Electric Company, 1000 Western Avenue, Lynn, MA 01910. This information may be examined at the FAA, New England Region, Office of the Regional Counsel, 12 New England Executive Park, Burlington, MA.

FOR FURTHER INFORMATION CONTACT: Kevin Donovan, Aerospace Engineer, Engine Certification Office, FAA, Engine and Propeller Directorate, 12 New England Executive Park, Burlington, MA 01803-5299; telephone (781) 238-7743, fax (781) 238-7199.

SUPPLEMENTARY INFORMATION: A proposal to amend part 39 of the Federal Aviation Regulations (14 CFR part 39) by superseding AD 69-23-02, Amendment 39-1086 (34 FR 18296, November 15, 1969); and AD 79-23-04, Amendment 39-3610 (44 FR 72103, December 13, 1979) that are applicable to General Electric Company CT58 turboshaft engines was published in the Federal Register on April 3, 2000 (64 FR 17471). That action proposed to require that the life limits of certain life-limited rotating parts be revised based on multiplying factors specified in GEAE Alert Service Bulletin (ASB) (CT58) 72-162 CEB 258, dated July 9, 1979, for RHL operations.

Comments

Interested persons have been afforded an opportunity to participate in the making of this amendment. No comments were received on the proposal or the FAA's determination of the cost to the public. The FAA has determined that air safety and the public interest require the adoption of the rule as proposed.

Differences Between the NPRM and the Amendment

Since the publication of the NPRM, the FAA has been informed that there are restricted category aircraft involved in RHL operations. As a result, the T58 models have been added to the Applicability of this amendment.

Economic Impact

There are approximately 380 engines of the affected design in the worldwide fleet. The FAA estimates that 130 engines installed on aircraft of U.S. registry would be affected by this proposed AD, that it would take approximately 0.25 work hour per engine to accomplish the proposed calculations, and that the average labor rate is $60 per work hour. Based on these figures, the total cost impact of the proposed AD on U.S. operators is estimated to be $1,950.

Regulatory Impact

This final rule does not have federalism implications, as defined in Executive Order 13132, because it does not have a substantial direct effect on the States, on the relationship between the national government and the States, or on the distribution of power and responsibilities among the various levels of government. Accordingly, the FAA has not consulted with state authorities prior to publication of this rule.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-1086 (34 FR 18296, October 15, 1970) and Amendment 39-3610 (44 FR 72103, December 13, 1979), and by adding a new airworthiness directive (AD) to read as follows:

AD 2001-18-06 GE Aircraft Engines: Amendment 39-12432. Docket No. 99-NE-13-AD. Supersedes AD 69-23-02, Amendment 39-1086 and AD 79-23-04, Amendment 39-3610.

Applicability: GE Aircraft Engines T58 and CT58 series turboshaft engine installed on, but not limited to Boeing—Vertol V-107 series, Kaman H-2, Bell UH-1F series; and Sikorsky CH/HH-3 series, S-61 A/H-3/CH124/CH-3/HH-3L/N/R series, and S-62 series rotorcraft.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Compliance with this AD is required as indicated, unless already accomplished.

To prevent low-cycle fatigue failure of rotating parts that could result in uncontained engine failure and damage to the rotorcraft, accomplish the following:

Calculating New Life Limits for Rotating Parts

(a) Within 50 hours time-in-service after the effective date of this AD, calculate the new cycles-since-new for life-limited rotating parts in accordance with the Accomplishment Instructions, 2.A. through 2.G. of GEAE Service Bulletin (CT58) 72-162 CEB-258, revision 9, dated October 6, 1998.

(b) Remove any part from service that exceeds the new calculated life limit and replace it with a serviceable part.

Alternative Methods of Compliance

(c) An alternative method of compliance or adjustment of the compliance time that provides an acceptable level of safety may be used if approved by the Manager, Engine Certification Office (ECO). Operators shall submit their requests through an appropriate FAA Principal Maintenance Inspector, who may add comments and then send it to the Manager, ECO.

Note 2: Information concerning the existence of approved alternative methods of compliance with this airworthiness directive, if any, may be obtained from the ECO.

(d) Special flight permits may be issued in accordance with §§ 21.197 and 21.199 of the Federal Aviation Regulations (14 CFR 21.197 and 21.199) to operate the rotorcraft to a location where the requirements of this AD can be accomplished.

Documents That Have Been Incorporated By Reference

(e) The calculation shall be done in accordance with the Accomplishment Instructions, 2.A. through 2.G. of GEAE Service Bulletin (CT58) 72-162 CEB-258, revision 9, dated October 6, 1998 as follows:

Document No. | Pages | Revision | Date
(CT58) 72-162 CEB-258 | 1-4 | 9 | October 6, 1998.
(CT58) 72-162 CEB-258 | 5 | 5 | May 12, 1994.
(CT58) 72-162 CEB-258 | 6 | 7 | April 25, 1997.
(CT58) 72-162 CEB-258 | 7-8 | 5 | May 12, 1994.
(CT58) 72-162 CEB-258 | 9-11 | 7 | April 25, 1997.
(CT58) 72-162 CEB-258 | 12-16 | 5 | May 12, 1994.
(CT58) 72-162 CEB-258 | 17 | 7 | April 25, 1997.
(CT58) 72-162 CEB-258 | 18 | 9 | October 6, 1998.
(CT58) 72-162 CEB-258 | 19-20 | 5 | May 12, 1994.
(CT58) 72-162 CEB-258 | 21 | 8 | June 16, 1997.
(CT58) 72-162 CEB-258 | 22-24 | 5 | May 12, 1994.
(CT58) 72-162 CEB-258 | 25-26 | 9 | October 6, 1998.
(CT58) 72-162 CEB-258 | 27 | 5 | May 12, 1994.
Total pages: 27.

This incorporation by reference was approved by the Director of the Federal Register in accordance with 5 U.S.C. 552(a) and 1 CFR part 51. Copies may be obtained from GE Aircraft Engines, General Electric Company, 1000 Western Avenue, Lynn, MA 01910. Copies may be inspected at the FAA, New England Region, Office of the Regional Counsel, 12 New England Executive Park, Burlington, MA; or at the Office of the Federal Register, 800 North Capitol Street, NW, suite 700, Washington, DC.

(f) This amendment becomes effective on October 18, 2001.

Issued in Burlington, Massachusetts, on August 24, 2001.
Jay J. Pardee,
Manager, Engine and Propeller Directorate, Aircraft Certification Service.

[FR Doc. 01-22312 Filed 9-12-01; 8:45 am]

BILLING CODE 4910-13-U